DEPARTMENT OF ENERGY

Federal Energy Regulatory Commission

Combined Notice of Filings #1

Take notice that the Commission received the following electric corporate filings:

Docket Numbers: EC16-183-000.

Applicants: Noble Altona Windpark, LLC, Noble Bliss Windpark, LLC, Noble Clinton Windpark I, LLC, Noble Ellenburg Windpark, LLC, Noble Chateaugay Windpark, LLC, Noble Great Plains Windpark, LLC, Noble Wethersfield Windpark, LLC.

Description: Application for Authorization under Section 203 of the Federal Power Act and Request for Waivers, Confidential Treatment, and Expedited Consideration of Noble Altona Windpark, LLC, et al.

Filed Date: 9/16/16.

Accession Number: 20160916-5121.

Comments Due: 5 p.m. ET 10/7/16.

Take notice that the Commission received the following exempt wholesale generator filings:

Docket Numbers: EG16-151-000.

Applicants: Dermott Wind, LLC.

Description: Notice of Self-Certification of Exempt Wholesale Generator Status of Dermott Wind, LLC.

Filed Date: 9/16/16.

Accession Number: 20160916-5062.

Comments Due: 5 p.m. ET 10/7/16.

Docket Numbers: EG16-152-000.

Applicants: Innovative Solar 46, LLC.

Description: Notice of Self-Certification of Exempt Wholesale Generator Status of Innovative Solar 46, LLC.

Filed Date: 9/16/16.

Accession Number: 20160916-5115.

Comments Due: 5 p.m. ET 10/7/16.

Take notice that the Commission received the following electric rate filings:

Docket Numbers: ER10-1818-012; ER10-1819-014; ER10-1820-017; ER10-1817-013.

Applicants: Public Service Company of Colorado, Southwestern Public Service Company, Northern States Power Company, a Minnesota corporation, Northern States Power Company, a Wisconsin corporation.

Description: Supplement to August 24, 2016 Supplement to Triennial Market Power Analysis and Notice of Change in Status of Public Service Company of Colorado, et al.

Filed Date: 9/13/16.

Accession Number: 20160913-5459.

Comments Due: 5 p.m. ET 10/4/16.

Docket Numbers: ER16-2091-000.

Applicants: Idaho Power Company.

Description: Supplement to June 30, 2016 Market Based Rate Triennial Analysis of Idaho Power Company.

Filed Date: 9/15/16.

Accession Number: 20160915-5236.

Comments Due: 5 p.m. ET 10/6/16.

Docket Numbers: ER16-2595-000.

Applicants: Southwest Power Pool, Inc.

Description: § 205(d) Rate Filing: 3240 WAPA & City of Flandreau, SD Interconnection Agreement to be effective 8/31/2016.

Filed Date: 9/16/16.

Accession Number: 20160916-5029.

Comments Due: 5 p.m. ET 10/7/16.

Docket Numbers: ER16-2596-000.

Applicants: Southwest Power Pool, Inc.

Description: § 205(d) Rate Filing: 2233R2 Osage Wind/GRDA Facilities Construction Agreement to be effective 8/25/2016.

Filed Date: 9/16/16.

Accession Number: 20160916-5030.

Comments Due: 5 p.m. ET 10/7/16.

Docket Numbers: ER16-2597-000.

Applicants: Public Service Company of Colorado.

Description: § 205(d) Rate Filing: 2016-9-16_OATT Att-O-PSCo_Admin SAP Filing to be effective 1/1/2016.

Filed Date: 9/16/16.

Accession Number: 20160916-5048.

Comments Due: 5 p.m. ET 10/7/16.

Docket Numbers: ER16-2598-000.

Applicants: Public Service Company of Colorado.

Description: § 205(d) Rate Filing: OATT-Att O-PSCo_O-SPS Administrative SAP Filing to be effective 4/16/2016.

Filed Date: 9/16/16.

Accession Number: 20160916-5052.

Comments Due: 5 p.m. ET 10/7/16.

Docket Numbers: ER16-2599-000.

Applicants: Arizona Public Service Company.

Description: § 205(d) Rate Filing: Rate Schedule No. 272 to be effective 11/16/2016.

Filed Date: 9/16/16.

Accession Number: 20160916-5105.

Comments Due: 5 p.m. ET 10/7/16.

Docket Numbers: ER16-2600-000.

Applicants: San Diego Gas & Electric Company.

Description: Notice of Cancellation of Large Generator Interconnection Agreement of San Diego Gas & Electric Company.

Filed Date: 9/16/16.

Accession Number: 20160916-5125.

Comments Due: 5 p.m. ET 10/7/16.

Docket Numbers: ER16-2601-000.

Applicants: Summit Farms Solar, LLC.

Description: Baseline eTariff Filing: Baseline—Market-Based Rate Tariff to be effective 11/1/2016.

Filed Date: 9/16/16.

Accession Number: 20160916-5131.

Comments Due: 5 p.m. ET 10/7/16.

Take notice that the Commission received the following public utility holding company filings:

Docket Numbers: PH16-13-000.

Applicants: Corning Natural Gas Holding Corporation.

Description: Corning Natural Gas Holding Corporation submits FERC 65-A Exemption Notification.

Filed Date: 9/15/16.

Accession Number: 20160915-5233.

Comments Due: 5 p.m. ET 10/6/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 16, 2016.
Nathaniel J. Davis, Sr.,
Deputy Secretary.

[FR Doc. 2016-22852 Filed 9-21-16; 8:45 am]

BILLING CODE 6717-01-P